DEPARTMENT OF DEFENSE

Department of the Navy

Notice of Availability of Record of Decision for the Final Environmental Impact Statement for the Disposal and Reuse of the Former Naval Weapons Station Seal Beach, Detachment Concord, Concord, California

AGENCY: Department of the Navy, DoD

ACTION: Notice.

SUMMARY: The U.S. Department of the Navy (Navy), after carefully weighing the environmental consequences of the proposed action, announces its decision to implement Alternative 1, the Navy's preferred alternative, as described in the Final Environmental Impact Statement (EIS) for the Disposal and Reuse of the Former Naval Weapons Station Seal Beach, Detachment Concord (NWS Concord), Concord, California. This decision will make approximately 4,972 acres of former NWS Concord property available to the local community for economic redevelopment.

SUPPLEMENTARY INFORMATION: Disposal and reuse under the chosen alternative is consistent with the City of Concord's “Concord Reuse Project Area Plan” and Public Law 101-510, the Defense Base Closure and Realignment Act (BRAC) of 1990, as amended in 2005. The complete text of the Record of Decision (ROD) is available for public viewing on the project Web site at http://www.BRACPMO.Navy.mil along with the Final EIS and supporting documents. Single copies of the ROD will be made available upon request by contacting: Ms. Erica Spinelli, Navy BRAC Program Management Office West, Concord EIS, 33000 Nixie Way, Building 50, San Diego, California, 92147-0001, telephone 619-524-5096, email erica.spinelli@navy.mil.

Dated: October 2, 2017.
A.M. Nichols,
Lieutenant Commander, Judge Advocate General's Corps, U.S. Navy, Federal Register Liaison Officer.

[FR Doc. 2017-21601 Filed 10-5-17; 8:45 am]

BILLING CODE 3810-FF-P